DEPARTMENT OF ENERGY

Federal Energy Regulatory Commission

[Docket Nos. CP05-76-000; CP05-77-000; and CP05-78-000]

Dominion South Pipeline Co., LP; Notice of Application

March 3, 2005.

Take notice that on February 28, 2005, Dominion South Pipeline Company, LP (Dominion South), 120 Tredegar Street, Richmond, Virginia 23219, filed with the Commission an application, pursuant to section 7(c) of the Natural Gas Act, and Subpart F of Part 157, and Subpart G of Part 284 of the Commission's Regulations for: (1) A certificate of public convenience and necessity authorizing Dominion South to construct and operate natural gas pipeline facilities (Dominion South Pipeline) connecting Transcontinental Gas Pipe Line and Florida Gas Transmission in Matagorda County, Texas; (2) a blanket certificate pursuant to Part 157, Subpart F, authorizing Dominion South to construct, acquire, operate and abandon facilities; and (3) a blanket certificate pursuant to Subpart G of Part 284 authorizing Dominion South to provide open-access firm and interruptible interstate natural gas services and the associated pre-granted abandonment authorization, as more fully set forth in the application which is open to public inspection. This filing may be also viewed on the Web at http://www.ferc.gov using the “eLibrary” link. Enter the docket number excluding the last three digits in the docket number field to access the document. For assistance, please contact FERCOnline Support at FERCOnlineSupport@ferc.gov or toll free at (866) 208-3676, or TTY, contact (202) 502-8659.

Dominion South proposes to construct and operate approximately 5 feet of 12-inch diameter pipeline to serve as an interconnecting pipeline between Florida Gas Transmission Company's (FGT) and Transcontinental Gas Pipe Line Corp.'s (Transco) currently segregated pipelines in Matagorda County, Texas. Dominion South would receive natural gas volumes from Transco and deliver to FGT up to 200,000 Dekatherm equivalent of natural gas per day on behalf of Dominion Field Services, Inc. Dominion South estimates that it would cost $2,256,123 to construct the proposed interconnecting pipeline.

Any questions regarding this application should be directed to Anne E. Bomar, Managing Director, Transmission Rates and Regulation, Dominion Resources, Inc., 120 Tredegar Street, Richmond, Virginia 23219, or via telephone at (804) 819-2134.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions via the Internet in lieu of paper. See, 18 CFR 385.2001(a)(1)(iii) and the instructions on the Commission's Web site (http://www.ferc.gov) under the “e-Filing” link.

Comment Date: March 23, 2005.

Magalie R. Salas,
Secretary.

[FR Doc. E5-999 Filed 3-9-05; 8:45 am]

BILLING CODE 6717-01-P